DEPARTMENT OF THE INTERIOR

Bureau of Safety and Environmental Enforcement

[Docket ID BSEE-2017-0003; OMB Control Number 1014-0018; 17XE1700DX EEEE500000 EX1SF0000.DAQ000]

Agency Information Collection Activities: OMB Control Number 1014-0018; Oil and Gas Drilling Operations

ACTION: Notice; request for comments.

SUMMARY: To comply with the Paperwork Reduction Act of 1995 (PRA), the Bureau of Safety and Environmental Enforcement (BSEE) is inviting comments on a collection of information that we will submit to the Office of Management and Budget (OMB) for review and approval. The information collection request (ICR) concerns a renewal to the paperwork requirements in BSEE's regulations concerning Oil and Gas Drilling Operations.

DATES: You must submit comments by September 5, 2017.

ADDRESSES: You may submit comments by either of the following methods listed below.

• Electronically go to http://www.regulations.gov. In the Search box, enter BSEE-2017-0003 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference ICR 1014-0018 in your comment and include your name and return address.

FOR FURTHER INFORMATION CONTACT: Nicole Mason, Regulations and Standards Branch, (703) 787-1607, to request additional information about this ICR.

SUPPLEMENTARY INFORMATION:

Title: 30 CFR part 250, subpart D, Oil and Gas Drilling Operations.

Form(s): BSEE-0125, BSEE-0133, and BSEE-0133S.

OMB Control Number: 1014-0018.

Abstract: The Outer Continental Shelf (OCS) Lands Act (OCSLA) at 43 U.S.C. 1334 authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to the Bureau of Safety and Environmental Enforcement (BSEE), 30 U.S.C. 1751 is included as additional authority for these requirements.

On November 2, 2015, the President signed into law the Federal Civil Penalties Inflation Adjustment Act Improvements Act of 2015 (Sec. 701 of Pub. L. 114-74) (FCPIA of 2015). The OCSLA directs the Secretary of the Interior to adjust the OCSLA maximum civil penalty amount at least once every three years to reflect any increase in the Consumer Price Index (CPI) to account for inflation (43 U.S.C. 1350(b)(1)). The FCPIA of 2015 requires Federal agencies to adjust the level of civil monetary penalties with an initial “catch-up” adjustment, if warranted, through rulemaking and then to make subsequent annual adjustments for inflation. The purpose of these adjustments is to maintain the deterrent effect of civil penalties and to further the policy goals of the underlying statutes.

These authorities and responsibilities are among those delegated to BSEE. The regulations at 30 CFR part 250, subpart D, concern oil and gas drilling requirements and are the subject of this collection. This request also covers related Notices to Lessees and Operators (NTLs) that BSEE issues to clarify, supplement, or provide additional guidance on some aspects of our regulations.

BSEE uses the information collected under subpart D to ensure safe drilling operations and to protect the human, marine, and coastal environment. Among other things, BSEE specifically uses the information to ensure: The drilling unit is fit for the intended purpose; the lessee or operator will not encounter geologic conditions that present a hazard to operations; equipment is maintained in a state of readiness and meets safety standards; each drilling crew is properly trained and able to promptly perform well-control activities at any time during well operations; compliance with safety standards; and the current regulations will provide for safe and proper field or reservoir development, resource evaluation, conservation, protection of correlative rights, safety, and environmental protection. We also review well records to ascertain whether drilling operations have encountered hydrocarbons or H2S and to ensure that H2S detection equipment, personnel protective equipment, and training of the crew are adequate for safe operations in zones known to contain H2S and zones where the presence of H2S is unknown.

The current subpart D regulations specify the use of forms BSEE-0125 (End of Operations Report), and BSEE-0133/0133S (Well Activity Report). The information on BSEE-0125 is used to ensure that industry has accurate and up-to-date data and information on wells and leasehold activities under their jurisdiction and to ensure compliance with approved plans and any conditions placed upon a suspension or temporary probation. It is also used to evaluate the remedial action in the event of well equipment failure or well control loss. Form BSEE-0125 is updated and resubmitted in the event the well status changes. In addition, except for proprietary data, BSEE is required by the OCS Lands Act to make available to the public certain information submitted on BSEE-0125. The BSEE uses the information on BSEE-0133/0133S to monitor the conditions of a well and status of drilling operations. We review the information to be aware of the well conditions and current drilling activity (i.e., well depth, drilling fluid weight, casing types and setting depths, completed well logs, and recent safety equipment tests and drills). The engineer uses this information to determine how accurately the lessee anticipated well conditions and if the lessee or operator is following the other approved forms that were submitted. With the information collected on BSEE-0133 available, the reviewers can analyze the proposed revisions (e.g., revised grade of casing or deeper casing setting depth) and make a quick and informed decision on the request.

Some responses are mandatory and some are required to obtain or retain a benefit. No questions of a sensitive nature are asked. BSEE will protect any confidential commercial or proprietary information according to the Freedom of Information Act (5 U.S.C. 552) and DOI's implementing regulations (43 CFR part 2); section 26 of OCSLA (43 U.S.C. 1352); 30 CFR 250.197, Data and information to be made available to the public or for limited inspection; and 30 CFR part 252, OCS Oil and Gas Information Program.

Frequency: On occasion, monthly, semi-annually, annually, and as a result of situations encountered depending upon the requirements.

Description of Respondents: Potential respondents comprise Federal OCS oil, gas, or sulfur lessees and/or operators and holders of pipeline rights-of-way.

Estimated Reporting and Recordkeeping Hour Burden: The currently approved annual reporting burden for this collection is 102,497 hours. The following chart details the individual components and estimated hour burdens. In calculating the burdens, we assumed that respondents perform certain requirements in the normal course of their activities. We consider these to be usual and customary and took that into account in estimating the burden.

Burden Breakdown
Citation 30 CFR part 250, subpart D and NTL(s) | Reporting and recordkeeping requirement * | Hour burden | Average number of annual responses | Annual burden hours (rounded)
400-490 | Apply for use of alternative procedures and/or departures not requested in BSEE forms (including discussions with BSEE or oral approvals) | Burden covered under 1014-0022. |  | 0
404 | Perform operational check of crown block safety device; record results (weekly) | 0.25 | 86 drilling rigs × 52 weeks = 4,472 records | 1,118
408-418, 420(a)(7); 423(b)(3), (c); 449(j), (k); 456(j); plus in subparts A, B, D, E, G, H, P, Q | Submit Application for Permit to Drill (APD Form BSEE-0123 and BSEE-0123S) that includes any/all supporting documentation and requests for various approvals required in subpart D (including §§ 250.425(a), 427, 428, 432, 447(c), 448(b),(c), 451(g), 460, 462(c), 470, 490(c)) and submitted via the form; upon request, make available to BSEE | Burden covered under 1014-0025. |  | 0
410(b) | Reference Well and site-specific information approved in your Exploration Plan, Development and Production Plan, Development Operations Coordination Document in your APD | Burdens pertaining to EPs, DPPs, DOCDs are covered under BOEM 1010-0151 and APDs are covered under 1014-0025. |  | 0
418(e) | Submit welding and burning plan according to 30 CFR 250, subpart A | Burden covered under 1014-0022. |  | 0
420(b)(3); 423(b)(7); 465(a), (b)(3); plus various ref in A, D, E, F, G, P, and Q | Submit Form BSEE-0125, End of Operations Report (EOR), and additional supporting information as required by the cited regulations; and any additional information required by the District Manager | 3 | BSEE-0125 279 submittals | 837
420(b)(3) | Submit dual mechanical barrier documentation after installation on form BSEE-0125 | 0.75 | 533 submittals | 400
420(b)(3) | Request approval for alternative options to installing barriers | 0.25 | 58 requests | 15
421(b) | Alaska only: Discuss the cement fill level with the District Manager | 1 | 1 discussion | 1
421(f) | Submit and receive approval if unable to cement 500 ft above previous shoe | Burden covered under 1014-0022. |  | 0
423(a) | Request and receive approval from District Manager for repair | 0.5 | 86 requests | 43
423(c)(2) | Document all test results pressure test and make them available to BSEE upon request | 05 | 300 results | 150
427(a) | Record results of all pressure integrity tests and hole behavior observations re-formation integrity and pore pressure | 2 | 4,226 record results | 8,452
428(c)(3); 428(k); ref in subparts A, D, G | In the GOM OCS Region, submit drilling activity reports weekly (District Manager may require more frequent submittals) on Forms BSEE-0133 (Well Activity Report (WAR)) and BSEE-0133S (Bore Hole Data) with supporting documentation | 1 | 4,160 submittals | 4,160
428(c)(3); 428(k); ref in A, D, G | In the Pacific and Alaska Regions during drilling operations, submit daily drilling reports on Forms BSEE-0133 (Well Activity Report (WAR)) and BSEE-0133S (Bore Hole Data) with supporting documentation | 1 | 14 wells × 365 days × 20% year = 1,022 | 1,022
428(d) | Submit all remedial actions for review and approval by District Manager (before taking action); and any other requirements of the District Manager | 5 | 1,000 submittals | 5,000
428(d) | Submit descriptions of completed immediate actions to District Manager and any other requirements of the District Manager | 5 | 564 submittals | 2,820
428(d) | Submit PE certification of any proposed changes to your well program; and any other requirements of the District Manager | 4 | 450 submittals | 1,800
428(k) | Maintain daily drilling report (cementing requirements) | 0.5 | 75 reports | 38
428(k) | If cement returns are not observed, contact the District Manager to obtain approval before continuing with operations | 1 | 10 requests | 10
434 | Record time, date & results of all diverter actuations & tests (average 2 per drilling operation); retain all charts/reports relating to diverter tests/actuations at facility for duration of drilling well | 2 | 620 records | 1,240
452(a), (b) | Immediately transmit real-time data gathering and monitoring to record, store, and transmit data relating to the BOP control system, fluid handling, downhole conditions; prior to well operations, notify BSEE of monitoring location and make data available to BSEE upon request | 12 | 1 transmittal | 12
452(b) | Store and monitor all information relating to § 250.452(a); make data available to BSEE upon request | 1 | 2 wells × 138 drilling days = 276 |
| 452(b) | Store and retain all monitoring records per requirements of §§ 250.740 and 250.741 | Burden covered under 1014-0028. |  | 0
456(b), (i) | Document/record in the driller's report every time you circulate drilling fluid; results of drilling fluid tests | 1 | 4,160 records | 4,160
456(c), (f) | Perform various calculations; post calculated drill pipe, collar, and drilling fluid volume; as well as maximum pressures | 1 | 4,259 postings | 4,259
458(b) | Record daily drilling fluid and materials inventory in drilling fluid report | 0.5 | 30,295 records | 15,148
459(a)(3) | Request exception to procedure for protecting negative pressure area | Burden included under 1014-0022. |  | 0
460 | Submit plans and obtain approval to conduct well test; notify BSEE before test (APD Form BSEE-0123) | Burden covered under 1014-0025. |  | 0
460; 465; plus in A, D, E, F, G, H, P, and Q | Provide revised plans and the additional supporting information required by the cited regulations when you submit an Application for Permit to Modify (APM) (Form BSEE-0124) to BSEE for approval; or a Revised APM | Burden covered under 1014-0026. |  | 0
461(a-b); 466(e); 468(a); NTL | Record and submit well logs and surveys run in the wellbore and/or charts of well logging operations (including but not limited to) | 3 | 302 logs/surveys | 906
| Record and submit directional and vertical-well surveys | 1 | 302 reports | 302
| Record and submit velocity profiles and surveys | 1 | 45 reports | 45
| Record and submit core analyses | 1 | 130 analyses | 130
461(e) | Provide copy of well directional survey to affected leaseholder | 0.75 | 11 occasions | 9
462(c) | NEW: Submit a description of source control and containment capabilities and all supporting information for approval | 8 | 150 submittals | 1,200
462(d) | NEW: Request re-evaluation of your source containment capabilities from the District Manager and Regional Supervisor | 1 | 600 requests | 600
462(e)(1) | NEW: Notify BSEE 21 days prior to pressure testing; witness by BSEE and BAVO | 0.5 | 150 notifications | 75
463(b) | Request field drilling rules be established, amended, or canceled | 4 | 6 requests | 24
465 | Obtain approval to revise your drilling plan or change major drilling equipment by submitting a revised BSEE-0124, Application for Permit to Modify and BSEE-0125, End of Operations Report | Burden covered under 1014-0026 & 1014-0028. |  | 0
470(a); 418 | Submit detailed descriptions of environmental, meteorologic, and oceanic conditions expected at well site(s); how drilling unit, equipment, and materials will be prepared for service; how the drilling unit will be in compliance with § 250.713 | 20 | 1 submittal | 20
470(b); 418 | Submit detailed description of transitioning rig from being underway to drilling and vice versa | 4 | 2 each well-underway to drilling; drilling to underway = 4 | 16
470(b); 418 | Submit detailed description of any anticipated repair and maintenance plans for the drilling unit and equipment | 2 | 2 submittals | 4
470(c); 418 | Submit well specific drilling objectives, timelines, and updated contingency plans etc., for temporary abandonment | 4 | 2 submittals | 8
470(d); 418 | Submit detailed description concerning weather and ice forecasting for all phases; including how to ensure continuous awareness of weather/ice hazards at/between each well site; plans for managing ice hazards and responding to weather events; verification of capabilities | 12 | 1 submittal | 12
470(e); 418; 472 | Submit a detailed description of compliance with relief rig plans | 140 | 1 description | 140
470(f); 471(c); 418 | SCCE capabilities; submit equipment statement showing capable of controlling WCD; detailed description of your or your contractor's SCCE capabilities including operating assumptions and limitations; inventory of local and regional supplies and services, along with supplier relevant information; proof of contract or agreements for providing SCCE or supplies, services; detailed description of procedures for inspecting, testing, and maintaining SCCE; and detailed description of your plan ensuring all members of the team operating SCCE have received training to deploy and operate, include dates of prior and planned training | 60 | 2 submittals | 120
470(g); 418 | Submit a detailed description of utilizing best practices of API RP 2N during operations | 20 | 1 submittal | 20
471(c); 470(f); 465(a) | Submit with your APM, a reevaluation of your SCCE capabilities if well design changes; include any new WCD rate and demonstrate that your SCCE capabilities will comply with § 250.470(f) | 10 | 2 submittals | 20
471(e) | Maintain all SCCE testing, inspection, and maintenance records for at least 10 years; make available to BSEE upon request | 20 | 2 records | 40
471(f) | Maintain all records pertaining to use of SCCE during testing, training, and deployment activities for at least 3 years; make available to BSEE upon request | 20 | 2 records | 40
490(c), (d) | Submit request for reclassification of H2S zone; notify BSEE if conditions change | Burden covered under 1014-0025. |  | 0
490(f); also in 418(d) | Submit contingency plans for operations in H2S areas (16 drilling, 6 work-over, 6 production) | 30 | 28 plans | 840
490(g) | Post safety instructions; document training; retain records at facility where employee works; train on occasion and/or annual refresher (approx. 2/year) | 4 | 34 records | 136
490(h)(2) | Document and retain attendance for weekly H2S drills and monthly safety mtgs until operations completed or for 1 year for production facilities at nearest field office | 2 | 2,514 records | 5,028
490(i) | Display warning signs—no burden as facilities would display warning signs and use other visual and audible systems. |  |  | 0
490(j)(7-8) | Record H2S detection and monitoring sensors during drilling testing and calibrations; make available upon request | 4 | 4,328 records | 17,312
490(j)(12) | Propose alternatives to minimize or eliminate SO2 hazards—submitted with contingency plans—burden covered under § 250.490(f). |  |  | 0
490(j)(13) (vi) | Label breathing air bottles—no burden as supplier normally labels bottles; facilities would routinely label if not. |  |  | 0
490(l) | Notify without delay of unplanned H2S releases (approx. 2/year) | Oral 0.2 | 24 notifications | 5
|  | Written 5 | 24 written reports | 120
490(o)(5) | Request approval to use drill pipe for well testing | 2 | 4 requests | 8
490(q)(1) | Seal and mark for the presence of H2S cores to be transported—no burden as facilities would routinely mark transported cores. |  |  | 0
490(q)(9) | Request approval to use gas containing H2S for instrument gas | 2 | 2 requests | 4
490(q)(12) | Analyze produced water disposed of for H2S content and submit results to BSEE | 3 | 164 submittals | 492
NTL | Voluntary submit to USCG read only access to the EPIRB data for their moored drilling rig fleet before hurricane season | .25 | 80 submittals | 20
* In the future, BSEE may require electronic filing of some submissions.

Estimated Reporting and Recordkeeping Non-Hour Cost Burden: There are no non-hour cost burdens associated with this collection

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other non-hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

BSEE Information Collection Clearance Officer: Nicole Mason, (703) 787-1607.

Dated: June 6, 2017.
Douglas Morris,
Chief, Office of Offshore Regulatory Programs.

[FR Doc. 2017-14236 Filed 7-6-17; 8:45 am]

BILLING CODE 4310-VH-P